DEPARTMENT OF VETERANS AFFAIRS

38 CFR Part 36

RIN 2900-AL65

Loan Guaranty: Loan Servicing and Claims Procedures Modifications

AGENCY: Department of Veterans Affairs.

ACTION: Supplemental notice of proposed rulemaking; reopening of comment period.

SUMMARY: This document provides supplemental notice regarding a proposal to amend the Department of Veterans Affairs (VA) Loan Guaranty regulations related to several aspects of the servicing and liquidating of guaranteed housing loans in default, and submission of guaranty claims by loan holders. It provides specific information regarding the computer-based system that VA proposes to implement as part of the loan servicing and claims procedure modifications in this rulemaking. VA is reopening the comment period for the limited purpose of accepting public comments concerning the supplemental information provided in this notice.

DATES: Comments must be received on or before December 11, 2006. All comments previously received following publication of the proposed rule referenced above are being considered and do not need to be resubmitted.

ADDRESSES: Written comments may be submitted through www.regulations.gov; by mail or hand-delivery to the Director, Regulations Management (00REG), Department of Veterans Affairs, 810 Vermont Ave., NW, Room 1068, Washington, DC 20420; or by fax to (202) 273-9026. Comments should indicate that they are submitted in response to “RIN 2900-AL65.”; Copies of comments received will be available for public inspection in the Office of Regulation Policy and Management, Room 1063B, between the hours of 8 a.m. and 4:30 p.m., Monday through Friday (except holidays). Please call (202) 273-9515 for an appointment. In addition, during the comment period, comments may be viewed online through the Federal Document Management System (FDMS). Comments previously received regarding the notice of proposed rulemaking for RIN 2900-AL65, published February 18, 2005 (70 FR 8472), will still be considered in the rulemaking process and do not need to be resubmitted.

FOR FURTHER INFORMATION CONTACT: Mike Frueh, Assistant Director for Loan Management (261), Veterans Benefits Administration, Department of Veterans Affairs, 810 Vermont Avenue, NW, Washington, DC 20420, at 202-273-7325. (This is not a toll-free telephone number.)

SUPPLEMENTARY INFORMATION: VA published a notice of proposed rulemaking in the Federal Register on February 18, 2005 (70 FR 8472), to amend regulations concerning the servicing and claims submission requirements on VA-guaranteed home loans. Included in that proposed rule were requirements for reporting information to VA under new 38 CFR 36.4315a. Under the Revised Reporting Requirements preamble heading, 70 FR 8474-8475, VA stated that proposed § 36.4315a would require all loan holders to electronically report information to the Department by use of a computer system, and that VA would be providing more specific information on this system prior to implementation. As VA has progressed in developing the VA Loan Electronic Reporting Interface (VALERI) necessary to receive reports from loan servicers, it has more clearly defined the system events and data elements that would be reported under § 36.4315a and is now ready to submit for public comment this more detailed information on VALERI. VA identifies these events and data elements in the supplementary information that follows.

Event Definitions

(1) Loan paid in full—when the loan obligation has been fully satisfied by receipt of funds and not a servicing transfer.

(2) Transfer of ownership—when the title holder of the property changes.

(3) Release of liability—when an obligor has been released from liability.

(4) Unauthorized transfer of ownership—when the servicer discovers that the loan has been assumed without prior approval (only on loans originated on or after March 1, 1988).

(5) SCRA relief filed—when any obligor on the loan requests or is deemed to be entitled to relief with regard to the loan under the Servicemembers Civil Relief Act (SCRA).

(6) Partial release of security—when pursuant to 38 CFR 36.4324, the holder has released the lien on a part of the security for the loan.

(7) Insurable loss occurred—when an insurable loss has occurred on the loan.

(8) Servicing transfer (transferring servicer)—when a servicer of a loan transfers servicing to a new servicer.

(9) Servicing transfer (receiving servicer)—when the new servicer boards the loan.

(10) Electronic Default Notification (EDN)—when the loan becomes at least 61 days delinquent.

(11) Delinquency status—when the holder notifies VA of any updates to the delinquency information on loans for which an EDN has been submitted.

(12) Contact information change—when there is a change to the contact information for current owners or a property or mailing address change.

(13) Occupancy status change—when there is a change in property occupancy status.

(14) Bankruptcy filed—when any owner files a petition under the Bankruptcy Code.

(15) Bankruptcy update—when a significant event related to the bankruptcy has occurred.

(16) Loss mitigation letter sent—when the holder sends the loss mitigation letter to the borrower as required by 38 CFR 36.4346(g)(1)(iv).

(17) Partial payment returned—when the holder returns a partial payment to the borrower.

(18) Default cured/loan reinstated—when a previously reported default (i.e., an EDN was filed) has been cured and the loan reinstated.

(19) Cure/reinstatement reversal—when a defaulted loan was reported “default cured/loan reinstated” and it must later be reversed.

(20) Default reported to credit bureau—when the holder notifies any of the credit bureaus of a defaulted loan or loan termination.

(21) Extenuating property circumstances—when extenuating property circumstances occur.

(22) Repayment plan approved—when the holder approves a repayment plan.

(23) Repayment plan infeasible—when the holder determines that a repayment plan is not feasible.

(24) Special forbearance approved—when the holder approves a special forbearance agreement.

(25) Special forbearance infeasible—when the holder determines that a special forbearance agreement is not feasible.

(26) Loan modification approved—when the holder approves a loan modification.

(27) Loan modification complete—when both the holder and the owner(s) have executed the modification agreement.

(28) Loan modification infeasible—when the holder determines the loan modification option infeasible.

(29) Compromise sale approved—when the holder approves a compromise sale.

(30) Compromise sale complete—when a compromise sale closes.

(31) Compromise sale infeasible—when the holder determines the compromise sale option infeasible.

(32) Deed-in-lieu of foreclosure approved—when the holder approves a deed-in-lieu of foreclosure.

(33) Deed-in-lieu of foreclosure complete—when the holder records the deed-in-lieu of foreclosure.

(34) Deed-in-lieu of foreclosure infeasible—when the holder determines the deed-in-lieu of foreclosure option infeasible.

(35) Foreclosure referral—when the loan is referred to legal counsel for foreclosure.

(36) Foreclosure sale scheduled—when the foreclosure sale is scheduled.

(37) Substantial equity case—when the holder determines that equity of at least 25 percent exists per 38 CFR 36.4319a(e).

(38) Foreclosure sale postponed or cancelled—when the foreclosure sale is postponed or cancelled.

(39) Results of sale—when the foreclosure sale is complete, the holder reports the results of the foreclosure sale.

(40) Transfer of custody—when the holder notifies VA of the holder's intent to convey the property.

(41) Improper transfer of custody—when the holder discovers that the conveyance of the property to VA was improper.

(42) Invalid sale results—when the foreclosure sale is invalid.

(43) Changed sale results—when the foreclosure sale results were changed.

(44) Confirmed sale date with no transfer of custody—when the loan is terminated, the property is not conveyed, and the property is located in a confirmation/ratification of sale state.

(45) Basic claim information—when the holder files a claim under guaranty.

(46) Refunding Settlement—when VA refunds a loan and the holder reports the tax and insurance information.

Data Element Definitions
Event name | Data elements | Business definition of data element
Header information for all event reporting | VA loan number | 12 position unique identifier for each loan guaranteed by VA. The VA Loan Number consists of a two-position numeric code for the regional office which has jurisdiction over the loan (OJ), a two-position numeric code for the regional office which originated the loan (OO), a one-position code for the type of loan (T), and a seven-position serial number or loan number (NNNNNNN). The format is OJOOTNNNNNNN. VALERI uses the twelve-digit VA loan number as the primary means of identifying loan data.
Header information | Date of the loan | Month, day, and year that the loan originated.
Header information | Original loan amount | Total amount of principal owed on the mortgage at loan origination before any payments are made on the loan.
Header information | Property state abbreviation | The state abbreviation of the expanded property address.
Header information | Current servicer identification number | Unique VA-issued number for the servicer location that is responsible for billing, collecting and disbursing payments, and filing reports on the VA loan. VALERI also uses this as secondary loan identification data, as needed, to identify records.
Header information | Servicer loan number | Unique servicer-issued number given to the VA loan for record keeping on the servicer system. VALERI also uses this as secondary loan identification data, as needed, to identify records.
Header information | Unique event ID | Unique event identification number for event the servicer is reporting.
Monthly loan status update | Unpaid principal balance | Present portion of the loan not yet repaid, exclusive of interest or other charges.
Monthly loan status update | Payment due date (a.k.a. date of first uncured default) | Month, day, and year of the earliest payment not fully satisfied by the proper application of available credits or deposits.
Loan paid in full | Date loan was paid in full | Month, day, and year of full satisfaction of a guaranteed loan.
Transfer of ownership | Date of transfer of ownership | Month, day, and year that loan is assumed by another party (date of settlement).
Transfer of ownership | Last name of transferee, if applicable | Last name of individual assuming the loan; reported if an individual and not an entity is assuming the loan.
Transfer of ownership | First name of transferee, if applicable | First name of individual assuming the loan; reported if an individual and not an entity is assuming the loan
Transfer of ownership | Middle initial of transferee, if applicable | Middle initial of individual assuming the loan; reported if an individual and not an entity is assuming the loan.
Transfer of ownership | Suffix of transferee, if applicable | Suffix (Jr., Sr., III, etc.), if any, of individual assuming loan; reported if an individual and not an entity is assuming the loan.
Transfer of ownership | Social security number of transferee, if applicable | Social security number of individual assuming loan; reported if an individual and not an entity is assuming the loan.
Transfer of ownership | Name of entity assuming loan, if applicable | Name of entity assuming loan, if applicable; reported if an entity and not an individual is assuming the loan.
Transfer of ownership | Taxpayer identification number, if applicable | Taxpayer identification number of entity assuming the loan; reported if an entity and not an individual is assuming the loan.
Transfer of ownership | Last name of co-transferee, if applicable | Last name of second individual assuming the loan; reported if there is a co-transferee.
Transfer of ownership | First name of co-transferee, if applicable | First name of second individual assuming the loan; reported if there is a co-transferee.
Transfer of ownership | Middle initial of co-transferee, if applicable | Middle initial of second individual assuming the loan; reported if there is a co-transferee.
Transfer of ownership | Suffix of co-transferee, if applicable | Suffix (Jr., Sr., III, etc.), if any, of second individual assuming loan; reported if there is a co-transferee.
Transfer of ownership | Social security number of co-transferee, if applicable | Social security number of second individual assuming loan; reported if there is a co-transferee.
Release of liability | Date of release | Month, day, and year on which the former obligor is no longer responsible for the loan.
Unauthorized transfer of ownership | Date servicer discovers unauthorized transfer | Month, day, and year servicer discovers that a transfer of ownership occurred without prior approval by VA and/or servicer.
SCRA relief filed | Date SCRA relief requested | Month, day, and year assistance under the SCRA was requested (explicit request or discovery of eligibility during servicing).
SCRA relief filed | Effective date of SCRA relief (can be prior to request date) | Month, day, and year that the veteran became eligible for assistance under the SCRA.
SCRA relief filed | Expected SCRA relief end date | Month, day, and year the relief is expected to end pursuant to the requirements of the Act.
Partial release of security | Date partial release of security document was executed | Month, day, and year that the security document releasing a portion of the secured property is executed.
Partial release of security | Amount of the proceeds from the partial release of security that are applied to the outstanding loan balance | Amount that is applied to the outstanding loan balance from the partial release of security; if the loan to value ratio is greater than or equal to 80 percent, the servicer must apply sufficient proceeds from the release to the outstanding loan balance to bring LTV to less than 80 percent.
Partial release of security | Amount of consideration offered for the property | Amount offered for the portion of the security being released.
Partial release of security | Date applied to principal | Month, day, and year that proceeds from the partial release of security are applied to the loan balance.
Partial release of security | Unpaid principal balance after application of proceeds | Loan balance that is outstanding after application of proceeds from the partial release of security.
Partial release of security | Value of remaining security | Appraised value of the remaining security after the release is completed.
Insurable loss occurred | Type of damage | Type of property damage that resulted in an insurance claim being filed.
Insurable loss occurred | Fire Damage | Type of property damage that resulted in an insurance claim being filed is fire damage.
Insurable loss occurred | Neglect | Type of property damage that resulted in an insurance claim being filed is neglect.
Insurable loss occurred | Vandalized | Type of property damage that resulted in an insurance claim being filed is property vandalism.
Insurable loss occurred | Freeze | Type of property damage that resulted in an insurance claim being filed is the result of a freeze.
Insurable loss occurred | Storm | Type of property damage that resulted in an insurance claim being filed is caused by a storm.
Insurable loss occurred | Flood | Type of property damage that resulted in an insurance claim being filed is flood damage.
Insurable loss occurred | Unknown | Type of property damage that resulted in an insurance claim being filed is unknown.
Insurable loss occurred | Hurricane | Type of property damage that resulted in an insurance claim being filed is caused by a hurricane.
Insurable loss occurred | Hail | Type of property damage that resulted in an insurance claim being filed is hail damage.
Insurable loss occurred | Tornado | Type of property damage that resulted in an insurance claim being filed is tornado damage.
Insurable loss occurred | Wind | Type of property damage that resulted in an insurance claim being filed is wind damage.
Insurable loss occurred | Mud/Landslide | Type of property damage that resulted in an insurance claim being filed is mud or landslide damage.
Insurable loss occurred | Earthquake | Type of property damage that resulted in an insurance claim being filed is earthquake damage.
Insurable loss occurred | Boiler Explosion | Type of property damage that resulted in an insurance claim being filed was caused by a boiler explosion.
Insurable loss occurred | Untypical Damage | Type of property damage that resulted in an insurance claim being filed is other than the typical specified reasons.
Insurable loss occurred | Date damage discovered | Month, day, and year the damage is discovered by the servicer.
Insurable loss occurred | Date insurance claim filed | Month, day, and year that the insurance claim for damage is filed, either by the borrower or the servicer.
Insurable loss occurred | Total loss (Y/N) | Decision made by the insurance company as to whether or not the property can be repaired.
Servicing transfer (transferring servicer) | Servicing release date | Month, day, and year that a servicer transfers responsibility for servicing a guaranteed loan to another servicer.
Servicing transfer (transferring servicer) | Name of new servicer | Name of servicer receiving responsibility for servicing a guaranteed loan.
Servicing transfer (receiving servicer) | Date loan acquired | Month, day, and year on which a servicer became responsible for servicing a guaranteed loan.
Servicing transfer (receiving servicer) | Previous servicer loan number | Loan number associated with the loan on the previous servicer's system.
Electronic default notification | Date of first payment on the original loan | Month, day, and year of the first scheduled payment on the loan (per the loan instruments).
Electronic default notification | Payment due date | Month, day, and year of the earliest payment not fully satisfied by the proper application of available credits or deposits.
Electronic default notification | Property address line 1 | The first line of the expanded property address.
Electronic default notification | Property address line 2 | The second line of the expanded property address.
Electronic default notification | Property address unit number | The unit number of the expanded property address.
Electronic default notification | Property address city | The city name of the expanded property address.
Electronic default notification | Property address zip code | A group of fields containing the zip code.
Electronic default notification | Property address suffix | The zip code suffix of the expanded property address.
Electronic default notification | Property address state abbreviation | The state abbreviation of the expanded property address.
Electronic default notification | Last name of current owner, if applicable | Surname of the individual who currently owns the property; if owner is an individual and not an entity.
Electronic default notification | First name of current owner, if applicable | First name of the individual who currently owns the property.
Electronic default notification | Middle initial of current owner, if applicable | First letter of the middle name, if any, of the individual who currently owns the property; if owner is an individual and not an entity.
Electronic default notification | Suffix of current owner, if applicable | Suffix (Jr., Sr., III, etc.), if any, of the individual who currently owns the property; if owner is an individual and not an entity.
Electronic default notification | Social security number of current owner; if current owner is an individual | Unique SSA-issued number assigned to the individual who currently owns the property; if owner is an individual and not an entity.
Electronic default notification | Last name of current co-owner, if applicable | Surname of the individual who currently co-owns the property, if applicable.
Electronic default notification | First name of current co-owner, if applicable | First name of the individual who currently co-owns the property, if applicable.
Electronic default notification | Middle initial of current co-owner, if applicable | First letter of the middle name, if any, of the individual who currently co-owns the property, if applicable.
Electronic default notification | Suffix of current co-owner, if applicable | Suffix (Jr., Sr., III, etc.), if any, of the individual who currently co-owns the property, if applicable.
Electronic default notification | Social security number of current co-owner; if applicable | Unique SSA-issued number assigned to the individual who currently co-owns the property, if applicable.
Electronic default notification | Name of entity that is current owner, if applicable | Name of entity that currently owns the property, if owner is an entity and not an individual.
Electronic default notification | Taxpayer identification number, if current owner is an entity | Unique IRS-issued number assigned to the entity who currently owns the property, if owner is an entity and not an individual.
Electronic default notification | Mailing address line 1 (if different from property address) | First line of the mailing address of current owners.
Electronic default notification | Mailing address line 2 (if different from property address) | Second line of the mailing address of current owners.
Electronic default notification | Mailing address suffix (if different from property address) | The zip code suffix of the mailing address.
Electronic default notification | Mailing address unit number (if different from property address) | The unit number of the expanded mailing address.
Electronic default notification | Mailing address city (if different from property address) | The city name of the expanded mailing address.
Electronic default notification | Mailing address zip code (if different from property address) | A group of fields containing the zip code +4 of the expanded mailing address.
Electronic default notification | Mailing address state abbreviation (if different from property address) | The state abbreviation of the expanded mailing address.
Electronic default notification | Interest rate on loan | Rate of interest charged on the loan, expressed as a percentage, per the loan instruments.
Electronic default notification | Unpaid principal balance | Present portion of the loan not yet repaid, exclusive of interest or other charges.
Electronic default notification | Principal and interest (P&I) portion of monthly installment | Amount of principal and interest due monthly under the terms of the loan agreement.
Electronic default notification | Taxes and insurance (T&I) portion of monthly installment | Amount of the tax and insurance deposit due monthly under the terms of the loan agreement and determined by the servicer in accordance with Real Estate Settlement Procedures Act (RESPA).
Electronic default notification | Other portion of monthly installment | Amount due monthly that does not pertain to principal and interest, taxes and insurance or late charges due under the terms of the obligation as of notice date (e.g., Homeowner Association (HOA) fees).
Electronic default notification | Late charges due | Amount due as a result of penalties imposed by the servicer that a borrower must pay when a payment is missed or made after the due date under the terms of the obligation as of notice date.
Electronic default notification | Occupant of property | Status of who currently resides in the property securing the loan obligation, or reason why no one resides there.
Electronic default notification | Original veteran | Individual who signed the loan documents and originated the loan.
Electronic default notification | Tenant | Individual who rents or leases the property securing the loan obligation.
Electronic default notification | Transferee | Individual who purchased the property and may have assumed the loan.
Electronic default notification | Vacant | Property is not occupied by anyone but appears to be maintained and is secure.
Electronic default notification | Abandoned | Property is vacant, is not being maintained, is not offered for sale or rent, and there has been no contact with the current owner.
Electronic default notification | First phone number (obligor 1) | First phone number (obligor 1).
Electronic default notification | Phone number type for first phone number (obligor 1) | Phone number type for first phone number (obligor 1).
Electronic default notification | Home | Home.
Electronic default notification | Work | Work.
Electronic default notification | Cell | Cell.
Electronic default notification | Second phone number (obligor 1) | Second phone number (obligor 1).
Electronic default notification | Phone number type for second phone number (obligor 1) | Phone number type for second phone number (obligor 1).
Electronic default notification | Home | Home.
Electronic default notification | Work | Work.
Electronic default notification | Cell | Cell.
Electronic default notification | Phone number (obligor 2) | Phone number (obligor 2).
Electronic default notification | Phone number type (obligor 2) | Phone number type (obligor 2).
Electronic default notification | Home | Home.
Electronic default notification | Work | Work.
Electronic default notification | Cell | Cell.
Electronic default notification | Phone number 1 (other authorized party) | Phone number 1 (other authorized party).
Electronic default notification | Primary reason for default (servicer may report only one) | Reason obligor is unable to or did not remit monthly payments.
Electronic default notification | Business failure | Reason for default is the occupation, work, or trade in which obligor is engaged did not generate enough funds for obligor to meet his financial obligations.
Electronic default notification | Casualty loss | Reason for default is the damage to the property as a result of a fire, storm, accident, flood, earthquake, or other catastrophic event.
Electronic default notification | Curtailment of income | Reason for default is a reduction or the curtailment of obligor's income from employment, investment, or other sources.
Electronic default notification | Death of borrower | Reason for default is that the obligor died.
Electronic default notification | Death of borrower's family member | Reason for default is the death of obligor's relative who was contributing towards the loan (directly or indirectly) and/or that obligor has incurred extraordinary expenses as a result of such death.
Electronic default notification | Distant employment transfer | Reason for default is the result of the borrower being transferred or relocated to a distant job location.
Electronic default notification | Energy/environmental cost | Reason for default is the result of the borrower incurring excessive energy related costs or costs associated with removal of an environmental hazard in or near the property.
Electronic default notification | Excessive obligations | Reason for default is obligor(s) incurred excessive debt in addition to the mortgage obligation or the mortgage payment has increased significantly.
Electronic default notification | Fraud | Reason for default is a legal dispute arising out of a fraudulent or illegal action that occurred in connection with the origination of the mortgage or at a later date.
Electronic default notification | Illness of borrower | Reason for default is a serious illness that keeps the borrower from working and generating income, and/or the borrower has incurred extraordinary expenses as a result of the illness.
Electronic default notification | Illness of borrower's family | Reason for default is the result of obligor(s) incurring extraordinary expenses as the result of the illness of a family member.
Electronic default notification | Inability to rent property | Reason for default is obligor has insufficient income and/or assets to make the monthly mortgage payment and the rental property is vacant.
Electronic default notification | Inability to sell property | Reason for default is obligor has insufficient income and/or assets to make the monthly mortgage payment and is unable to sell the property.
Electronic default notification | Incarceration | Reason for default is the result of obligor being jailed or imprisoned, regardless of whether obligor is still incarcerated.
Electronic default notification | Marital difficulties | Reason for default is problems associated with separation or divorce including dispute over payments during divorce settlement, reduction in income available to pay the mortgage debt, etc.
Electronic default notification | Military service | Reason for default is the result of obligor being called into active duty status and the military pay is insufficient to make the monthly mortgage payment.
Electronic default notification | Payment adjustment | Reason for default is the result of the borrower being unable to make new payments that resulted from an increase in the monthly payment.
Electronic default notification | Payment dispute | Reason for default is the result of a disagreement between obligor and the mortgage servicer about the amount of the mortgage payment, the acceptance of a partial payment, the application of previous payments, etc., that result in obligor refusing to make payments until the dispute is resolved.
Electronic default notification | Property problems | Reason for default is the result of the condition of the property such as substandard construction, expensive and extensive repairs required, etc.
Electronic default notification | Servicing problems | Reason for default is the result of obligor being dissatisfied with the servicer of the loan or with the fact that servicing has been transferred to a new servicer.
Electronic default notification | Tenant not paying | Reason for default is the result of the obligor's tenant not paying rent.
Electronic default notification | Transfer of ownership | Reason for default is the result of the obligor not making payments while sale of the property is pending.
Electronic default notification | Unemployment notification | Reason for default is the result of a reduction in obligor's income due to loss of job.
Electronic default notification | Borrower never responded to outreach | Reason for default is unknown (unable to get contact or unable to determine the reason).
Delinquency status | Unpaid principal balance (UPB) | Amount of principal due under the terms of the obligation as of payment due date.
Delinquency status | Payment due date | Month, day, and year of the earliest payment not fully satisfied by the proper application of available credits or deposits.
Delinquency status | Principal and interest (P&I) portion of monthly installment, if changed | Amount of principal and interest due monthly under the terms of the loan agreement, if changed from last report.
Delinquency status | Taxes and insurance (T&I) portion of monthly installment, if changed | Amount of taxes and insurance due monthly under the terms of the loan agreement, if changed from last report.
Delinquency status | Other portion of monthly installment, if changed | Amount due that does not pertain to principal and interest and/or taxes and insurance, due under the terms of the obligation (example is HOA fees), if changed from last report.
Delinquency status | Late charges due | Amount due as a result of penalties imposed by the servicer that a borrower must pay when a payment is missed or made after the due date under the terms of the obligation as of notice date.
Delinquency status | Expenses incurred to date | Any costs that have been paid by the servicer and can be charged to the loan.
Contact information change | Updated mailing address line 1 (if different from property address) | First line of the mailing address of current owners, if changed from last report.
Contact information change | Updated mailing address line 2 (if different from property address) | Second line of the mailing address of current owners, if changed from last report.
Contact information change | Updated mailing address unit number (if different from property address) | The unit number of the expanded mailing address, if changed from last report.
Contact information change | Updated mailing address city (if different from property address) | The city name of the expanded mailing address, if changed from last report.
Contact information change | Updated mailing address zip code (if different from property address) | A group of fields containing the zip code of the expanded mailing address, if changed from last report.
Contact information change | Updated mailing address suffix (if different from property address) | The zip code suffix of the mailing address, if changed from last report.
Contact information change | Updated mailing address state abbreviation (if different from property address) | The state abbreviation of the expanded mailing address, if changed from last report.
Contact information change | Updated first phone number (obligor 1) | First phone number (obligor 1).
Contact information change | Updated phone number type for first phone number (obligor 1) | Phone number type for first phone number (obligor 1).
Contact information change | Home | Home.
Contact information change | Work | Work.
Contact information change | Cell | Cell.
Contact information change | Updated second phone number (obligor 1) | Second phone number (obligor 1).
Contact information change | Updated phone number type for second phone number (obligor 1) | Phone number type for second phone number (obligor 1).
Contact information change | Home | Home.
Contact information change | Work | Work.
Contact information change | Cell | Cell.
Contact information change | Updated phone number (obligor 2) | Phone number (obligor 2).
Contact information change | Updated phone number type (obligor 2) | Phone number type (obligor 2).
Contact information change | Home | Home.
Contact information change | Work | Work.
Contact information change | Cell | Cell.
Contact information change | Updated phone number 1 (other authorized party) | Phone number 1 (other authorized party).
Occupancy status change | Date the change in occupancy status is discovered by servicer | Month, day, and year that occupancy status change was discovered by the servicer.
Occupancy status change | Occupancy status | Status of who currently resides in the property securing the loan obligation, or reason why no one resides there.
Occupancy status change | Original veteran | Original veteran currently resides in the property securing the loan obligation.
Occupancy status change | Tenant | Individual rents or leases the property securing the loan obligation.
Occupancy status change | Transferee | A conveyance was made and an individual/entity currently resides in the property securing the loan obligation.
Occupancy status change | Vacant | Property is not occupied by anyone but appears to be maintained and is secure.
Occupancy status change | Abandoned | Property is vacant, is not being maintained, and is not offered for sale or rent.
Bankruptcy filed | Date bankruptcy filed | Month, day, and year that obligor filed for protection under U.S. bankruptcy codes.
Bankruptcy filed | Type of bankruptcy | Type of bankruptcy (chapter number) under which the obligor filed for protection.
Bankruptcy filed | Chapter 7 | Chapter of the U.S. bankruptcy code providing for the sale of an obligor's nonexempt property and assets and the distribution of the proceeds to creditors.
Bankruptcy filed | Chapter 11 | Chapter of the U.S. bankruptcy code providing obligor or obligor's failing firm protection against all creditors while being reorganized to pay off debts.
Bankruptcy filed | Chapter 12 | Chapter of the U.S. bankruptcy code designed to give special relief to obligor if obligor is a family farmer with seasonal income.
Bankruptcy filed | Chapter 13 | Chapter of the U.S. bankruptcy code allowing obligor to begin debt repayment without forfeiting property.
Bankruptcy filed | Bankruptcy case number | Case number assigned by the bankruptcy court.
Bankruptcy filed | Bankruptcy code | Indicates whether the mortgagor, co-mortgagor, or both are filing bankruptcy.
Bankruptcy filed | Only the obligor has filed | Indicates that only the obligor has filed for bankruptcy.
Bankruptcy filed | Only the co-obligor has filed | Indicates that only the co-obligor has filed for bankruptcy.
Bankruptcy filed | Both the obligor and co-obligor have filed | Indicates that both obligor and co-obligor have filed for bankruptcy
Bankruptcy filed | Name(s) of debtor(s)-report all applicable | Name of obligor(s) that filed petition for relief under the U.S. bankruptcy code-report all applicable.
Bankruptcy filed | Alternate debtor | This field indicates the second alternate debtor (if any) for the loan.
Bankruptcy filed | Social security number (SSN)(s) of debtor(s) | Unique SSA-issued number or unique IRS-issued number (TIN) of the obligor(s) that filed a petition for relief under the U.S. bankruptcy code.
Bankruptcy filed | Alternate debtor social security number (SSN) | This field indicates the second alternate debtor social security number (if any) for the loan.
Bankruptcy update | Bankruptcy event | Any significant action taken during the bankruptcy process as defined in the eight following items.
Bankruptcy update | Date relief of stay filed | Date a petition was filed by servicer requesting relief from the stay so that servicer may proceed to terminate the loan.
Bankruptcy update | Date of discharge | Date of the court order terminating bankruptcy proceedings, usually relieving the obligor of his/her obligation.
Bankruptcy update | Date of dismissal | Date of the court order terminating the case without either the entry of a discharge or a denial of discharge.
Bankruptcy update | Date stay lifted | Date of the court order permitting collection/termination actions against the obligor and/or the property that secures the loan.
Loss mitigation letter sent | Date that the letter was sent | Month, day, and year loss mitigation (foreclosure avoidance) notice sent by the servicer.
Partial payment returned | Reason why the partial payment was returned | VA-authorized reason for the return of a payment of any amount less than the full amount due under the loan terms.
Partial payment returned | Tenant payments not being forwarded | Property is completely or partially tenant-occupied and rental payments are not being paid to servicer for application to the loan account.
Partial payment returned | Less than 50 percent of total due and no repayment plan is in place | Payment is less than 50 percent of the total amount then due, and the amount has not been agreed to in a documented repayment plan.
Partial payment returned | Personal checks not accepted | Amount tendered is in the form of a personal check and the borrower has been previously notified in writing that only cash or certified payments are acceptable.
Partial payment returned | Foreclosure process started | Foreclosure has been started with the first action required for foreclosure under local law.
Partial payment returned | Less than one monthly installment and no repayment plan in place | Payment is less than one full monthly installment, including escrow and late charges, and the amount has not been agreed to in a documented repayment plan.
Partial payment returned | Less than repayment plan agreed amount | Payment is less than the amount agreed to in a documented repayment plan.
Partial payment returned | Unpaid delinquency over six months and no repayment plan in place | Delinquency of any amount has continued for at least 6 months since the account first became delinquent and no documented repayment plan has been arranged.
Partial payment returned | Servicer lien would be jeopardized | Holder's lien position would be jeopardized by acceptance of partial payment.
Partial payment returned | Date partial payment returned | Month, day, and year that servicer returned the partial payment.
Partial payment returned | Amount of partial payment returned | Amount of partial payment that servicer returned.
Default cured/loan reinstated | Date loan reinstated | Month, day, and year all delinquent amounts were fully repaid; a loan is current if the payment due date is the first day of the next month (as of the last day of the previous month).
Cure/reinstatement reversal | Date of reversal | Month, day, and year the servicer discovered that a previously reported cure was in error.
Cure/reinstatement reversal | Payment due date | Month, day, and year the last full monthly obligation was applied; as of the date of the cure reversal.
Cure/reinstatement reversal | Reason for reversal | Basis for determination that all delinquent amounts thought to be fully repaid were not.
Cure/reinstatement reversal | NSF check | Reason for reversal of cured default is that obligor's bank account has insufficient funds available to pay the check.
Cure/reinstatement reversal | Misapplication of funds | Reason for reversal of cured default is that funds were applied to the loan in error.
Cure/reinstatement reversal | Reporting error (includes erroneously reported servicing transferred) | Reason for reversal of cured default is that the servicer reported the cure in error.
Default reported to credit bureau | Date reported | Month, day, and year that servicer reports to the credit bureau that obligor has failed to comply with the terms of the loan agreement.
Extenuating property circumstances | Date the extenuating property circumstance was discovered | The date the property damage was discovered.
Extenuating property circumstances | Type of unusual property circumstance | Basis for determination that foreclosure process should be sped up or delayed due to the condition of obligor's property.
Extenuating property circumstances | Hazardous conditions or materials | Reason for extenuating property circumstances is the presence of conditions or materials on the property which create an immediate or potential danger to the public health or safety or to the environment.
Extenuating property circumstances | Significant property deterioration | Reason for extenuating property circumstances is property has deteriorated significantly.
Extenuating property circumstances | Condemned | Reason for extenuating property circumstances is property is deemed legally unfit for occupancy or continued existence due to its physical defects or for other causes or the property is being acquired by a governmental body for public uses as per receipt of official notice from the appropriate local government office.
Extenuating property circumstances | Natural disaster | Reason for extenuating property circumstances is the result of a natural disaster, such as fire, storm, accident, flood, earthquake, or other catastrophic event.
Extenuating property circumstances | Property seizure | Law enforcement officials have taken a property that has been used (a) in connection with or acquired by illegal activities or (b) in satisfaction of an unpaid judgment.
Extenuating property circumstances | Demolished | Reason for extenuating property circumstances is property has been razed.
Extenuating property circumstances | Other | Reason for extenuating property circumstances is other than one of the reasons listed.
Repayment plan approved | Date repayment plan approved | Month, day, and year servicer approved written agreement with the obligor for reinstatement of the loan through a schedule of increased payments.
Repayment plan approved | Plan start date (month and year) | Month and year that repayment plan is documented to begin.
Repayment plan approved | Estimated cure date | Estimated month, day, and year the delinquency will be fully satisfied by the proper application of available credits or deposits resulting from the repay plan.
Repayment plan infeasible | Date of determination | Month, day, and year that servicer determines that a repay plan with the obligor is not a home retention option.
Repayment plan infeasible | Reason for infeasibility | Basis for determination that repay plan with the obligor is not a home retention option.
Repayment plan infeasible | Unwilling borrower(s) | Reason for infeasibility of the repay plan is that obligor does not agree to a repay plan.
Repayment plan infeasible | Unable to contact | Reason for infeasibility of the repay plan is that servicer is not able to contact obligor to negotiate.
Repayment plan infeasible | Current owner not liable | Reason for infeasibility of the repay plan is current owner of the property is not the obligor on the loan.
Repayment plan infeasible | Property abandoned | Reason for infeasibility of the repay plan is the property is vacant, is not being maintained, is not offered for sale or rent, and no contact with the borrower has been established.
Repayment plan infeasible | Insufficient income | Reason for infeasibility of the repay plan is that obligor does not have enough income to meet the obligations under a repay plan.
Special forbearance approved | Estimated cure date | Estimated month, day, and year the delinquency will be fully satisfied by the proper application of available credits or deposits resulting from the proposed special forbearance.
Special forbearance infeasible | Date of determination | Month, day, and year that servicer determines that neither suspension nor reduction of obligor's payments for one or more months is a home retention option.
Special forbearance infeasible | Reason for infeasibility | Basis for determination that special forbearance with the obligor is not a home retention option.
Special forbearance infeasible | Unwilling borrower | Reason for infeasibility of the special forbearance is that obligor does not agree to special forbearance.
Special forbearance infeasible | Unable to contact | Reason for infeasibility of the special forbearance is that servicer is not able to contact obligor to negotiate.
Special forbearance infeasible | Insufficient income | Reason for infeasibility of the special forbearance is that obligor does not have enough income to meet the obligations under a special forbearance.
Special forbearance infeasible | Current owner not liable | Reason for infeasibility of the special forbearance is current owner of the property is not the obligor on the loan.
Special forbearance infeasible | Property abandoned | Reason for infeasibility of the special forbearance is the property is vacant, is not being maintained, is not offered for sale or rent, and no contact with the homeowner has been established.
Special forbearance infeasible | No means to reinstate | Reason for infeasibility of the special forbearance is that reducing payments and/or forbearing payments will have no impact on the obligor's inability to cure the delinquency and reinstate the loan.
Loan modification approved | Date modification of loan approved | Month, day, and year that servicer approves a permanent change in one or more of the terms of the loan and usually includes re-amortization of the balance due.
Loan modification complete | Date loan modification fully executed | Month, day, and year that servicer and borrower execute the modification agreement thereby completing a permanent change in one or more of the terms of the loan that results in loan reinstatement.
Loan modification complete | Modified loan amount | Total amount of principal owed on the mortgage after the loan modification and before any payments are made; only unpaid principal, accrued interest, deficits in the taxes and insurance impound accounts, and advances required to preserve the lien position, such as HOA fees, special assessments, water and sewer liens, etc., may be included in the modified indebtedness; late fees and other charges may not be capitalized.
Loan modification complete | Term | Number of months over which the unpaid balance of the modified loan will be repaid.
Loan modification complete | Modified loan maturity date | Month, day, and year that modified loan will be paid in full.
Loan modification complete | Interest rate | Rate of interest charged on the loan, expressed as a percentage, per the modified loan instruments.
Loan modification complete | Date of first payment | Month, day, and year that first installment on modified loan is due.
Loan modification complete | New principal and interest (P&I) payment | Monthly amount due (for principal and interest) on the modified loan.
Loan modification infeasible | Date of determination | Month, day, and year that servicer determines that loan modification is not a home retention option.
Loan modification infeasible | Reason for infeasibility | Basis for determination that loan modification with the obligor is not a home retention option.
Loan modification infeasible | Unwilling borrower | Reason for infeasibility of the loan modification is that obligor does not agree to a loan modification.
Loan modification infeasible | Unable to contact | Reason for infeasibility of the loan modification is that servicer is not able to contact obligor to negotiate.
Loan modification infeasible | Insufficient income | Reason for infeasibility of the loan modification is that obligor does not have enough income to meet the obligations under a loan modification.
Loan modification infeasible | Insufficient borrower contribution | Reason for infeasibility of the loan modification is that obligor has insufficient cash to satisfy all delinquent amounts not included in the new loan amount.
Loan modification infeasible | Junior lien issues | Reason for infeasibility of the loan modification is that junior lien holder refuses to subordinate.
Loan modification infeasible | Ineligible-prior approval denied | Reason for infeasibility of the loan modification is that VA denied a prior approval of a non-conforming loan modification.
Loan modification infeasible | Ineligible-not submitted for prior approval | Reason for infeasibility of the loan modification is that the servicer did not submit a non-conforming loan modification for prior approval.
Loan modification infeasible | Current owner not liable | Reason for infeasibility of the loan modification is that the current owner is not legally liable on the loan.
Loan modification infeasible | Ginnie Mae pooling issues | Reason for infeasibility of the loan modification is that the servicer is unwilling to bear the cost of repurchasing the loan from the pool and/or repooling.
Loan modification infeasible | Property abandoned | Reason for infeasibility of the loan modification is the property is vacant, is not being maintained, and is not offered for sale or rent.
Loan modification infeasible | Not owner occupied | Reason for infeasibility of the loan modification is that the owner does not currently reside in the property.
Compromise sale approved | Date purchase offer submitted by borrower for consideration | Month, day, and year that obligor submits a purchase offer to the servicer for consideration where the proceeds of the private sale will be less than the amount required to pay the mortgage in full.
Compromise sale approved | Date compromise sale approved | Month, day, and year that servicer approves obligor's request to complete a private sale where the proceeds will be less than the amount required to pay the mortgage in full.
Compromise sale approved | Estimated settlement date | Estimated month, day, and year that obligor's property is scheduled to close by private sale and the proceeds will be less than the amount required to pay the mortgage in full.
Compromise sale complete | Actual settlement date | Actual month, day, and year that obligor's property was sold to a third party in a private sale and the proceeds were less than the amount required to pay the mortgage in full.
Compromise sale complete | Payoff of first mortgage loan (line 504 from HUD-1) | Net proceeds from the sale, listed in line 504 from HUD-1 form (also known as the “closing statement” or “settlement sheet”), which will be applied toward the payoff of the first mortgage loan.
Compromise sale infeasible | Date of determination | Month, day, and year that servicer determines that the compromise sale is not an alternative to foreclosure.
Compromise sale infeasible | Reason for infeasibility | Basis for determination that compromise sale is not an alternative to foreclosure.
Compromise sale infeasible | No buyers | Reason for infeasibility of the compromise sale is that there are no buyers interested in the obligor's property.
Compromise sale infeasible | Closing not consummated | Reason for infeasibility of the compromise sale is that a potential sale did not legally close.
Compromise sale infeasible | Unwilling borrower(s) | Reason for infeasibility of the compromise sale is that obligor does not agree to a compromise sale.
Compromise sale infeasible | Property abandoned | Reason for infeasibility of the compromise sale is the property is vacant, is not being maintained, is not offered for sale or rent, and no contact with the homeowner has been established.
Compromise sale infeasible | Unable to contact | Reason for infeasibility of the compromise sale is that servicer is not able to contact obligor to negotiate.
Compromise sale infeasible | Junior lien issues | Reason for infeasibility of the compromise sale is that junior lien holder is unwilling to participate in the compromise sale.
Compromise sale infeasible | Title problems | Reason for infeasibility of the compromise sale is that the owner is unable to provide clear title to the prospective purchaser.
Deed-in-lieu approved | Date DIL was requested | Month, day, and year that the obligor requests a voluntary transfer of the property to the holder in exchange for a release of all obligations under the mortgage.
Deed-in-lieu approved | Date of approval | Month, day, and year that a deed in lieu of foreclosure is approved by the servicer.
Deed-in-lieu complete | Date that deed was recorded | Month, day, and year that the deed in lieu of foreclosure was recorded with the local government office.
Deed-in-lieu complete | Net value | The fair market value of the property minus the VA cost factor (net value = fair market value of the property * (1-the net value factor)).
Deed-in-lieu complete | Total eligible indebtedness | The unpaid principal balance, accrued unpaid interest, allowable advances, liquidation expenses, and property preservation expenses (if incurred prior to the actual foreclosure sale date or the end of the foreclosure timeframe, whichever is earlier), less any credits.
Deed-in-lieu infeasible | Date of determination | Month, day, and year that servicer determines that the deed in lieu of foreclosure is not an alternative to foreclosure.
Deed-in-lieu infeasible | Reason for infeasibility | Basis for determination that deed in lieu of foreclosure is not an alternative to foreclosure.
Deed-in-lieu infeasible | Junior lien(s) | Reason for infeasibility of the deed in lieu of foreclosure is that there is a junior lien on the property.
Deed-in-lieu infeasible | Title problems | Reason for infeasibility of the deed in lieu of foreclosure is that the owner is unable to transfer clear title.
Deed-in-lieu infeasible | Unwilling borrower(s) | Reason for infeasibility of the deed in lieu of foreclosure is that one or more of the owners do not agree to a deed in lieu of foreclosure.
Deed-in-lieu infeasible | Property abandoned | Reason for infeasibility of the deed in lieu of foreclosure is the property is vacant, is not being maintained, is not offered for sale or rent, and contact with the homeowner has not been established.
Deed-in-lieu infeasible | Unable to contact | Reason for infeasibility of the deed in lieu of foreclosure is that servicer is not able to contact obligor to negotiate.
Foreclosure referral | Date of referral to attorney | Month, day, and year servicer refers obligor's loan to legal counsel to initiate the foreclosure process.
Foreclosure referral | Date of most recent property inspection | Month, day, and year of the most recently performed property inspection for the current default.
Foreclosure referral | Date 30 day delinquency letter sent (if no successful phone contact) | Month, day, and year that servicer sent 30 day delinquency letter (letter to the borrower if payment has not been received within 30 days after it was due and telephone contact could not be made—38CFR 36.4346(g)).
Foreclosure referral | Date phone contact successful | Month, day, and year that servicer successfully contacted obligor via telephone for the current default (“right party” contact).
Foreclosure referral | Updated reason for default at time of foreclosure | Basis for determination that foreclosure process should be initiated.
Foreclosure referral | Business failure | Reason for default is the occupation, work, or trade in which obligor is engaged did not generate enough funds to meet his financial obligations.
Foreclosure referral | Casualty loss | Reason for default is the damage to the property as a result of a fire, storm, accident, flood, earthquake, or other catastrophic event.
Foreclosure referral | Curtailment of income | Reason for default is a reduction or the curtailment of obligor's income from employment, investment, or other sources.
Foreclosure referral | Death of borrower | Reason for default is that the obligor died.
Foreclosure referral | Death of borrower's family member | Reason for default is the death of obligor's relative who is contributing towards the loan (directly or indirectly) and/or that obligor has incurred extraordinary expenses as a result of such death.
Foreclosure referral | Distant employment transfer | Reason for default is the result of the borrower being transferred or relocated to a distant job location.
Foreclosure referral | Energy/environmental cost | Reason for default is the result of the borrower incurring excessive energy related costs or costs associated with removal of an environmental hazard in or near the property.
Foreclosure referral | Excessive obligations | Reason for default is obligor incurred excessive debt in addition to the mortgage obligation or the mortgage payment has increased significantly.
Foreclosure referral | Fraud | Reason for default is a legal dispute arising out of a fraudulent or illegal action that occurred in connection with the origination of the mortgage or at a later date.
Foreclosure referral | Illness of borrower | Reason for default is a serious illness that keeps the borrower from working and generating income, and/or the borrower has incurred extraordinary expenses as a result of the illness.
Foreclosure referral | Illness of borrower's family | Reason for default is the result of obligor incurring extraordinary expenses as the result of the illness of a family member.
Foreclosure referral | Inability to rent property | Reason for default is obligor has insufficient income and/or assets to make the monthly mortgage payment and the rental property is vacant.
Foreclosure referral | Inability to sell property | Reason for default is obligor has insufficient income and/or assets to make the monthly mortgage payment and is unable to sell the property.
Foreclosure referral | Incarceration | Reason for default is the result of obligor being jailed or imprisoned, regardless of whether obligor is still incarcerated.
Foreclosure referral | Marital difficulties | Reason for default is problems associated with separation or divorce including dispute over payments during divorce settlement, reduction in income available to pay the mortgage debt, etc.
Foreclosure referral | Military service | Reason for default is the result of obligor being called into active duty status and the military pay is insufficient to make the monthly mortgage payment.
Foreclosure referral | Payment adjustment | Reason for default is the result of the borrower being unable to make new payments that resulted from an increase in the monthly payment.
Foreclosure referral | Payment dispute | Reason for default is that a disagreement between obligor and the mortgage servicer about the amount of the mortgage payment, the acceptance of a partial payment, the application of previous payments, etc. resulted in obligor refusing to make payments until the dispute is resolved.
Foreclosure referral | Property problems | Reason for default is the result of the condition of the property such as substandard construction, expensive and extensive repairs required, etc.
Foreclosure referral | Servicing problems | Reason for default is the result of obligor being dissatisfied with the servicer of the loan or with the fact that servicing has been transferred to a new servicer.
Foreclosure referral | Tenant not paying | Reason for default is the result of the obligor's tenant not paying rent.
Foreclosure referral | Transfer of ownership | Reason for default is the result of the obligor not making payments while sale of the property is pending.
Foreclosure referral | Unemployment notification | Reason for default is the result of a reduction in obligor's income due to loss of job.
Foreclosure referral | Borrower never responded to outreach | Reason for default is unknown (unable to get contact or unable to determine the reason).
Foreclosure sale scheduled | Date of scheduled foreclosure sale | Month, day, and year the property will be sold to satisfy the loan obligation (or month, day, and year it is anticipated the property will be sold to satisfy the loan obligation for states such as South Dakota).
Foreclosure sale scheduled | Foreclosure type | Type of legal process by which the property is sold to satisfy the loan obligation.
Foreclosure sale scheduled | Judicial | Type of foreclosure process done through court action.
Foreclosure sale scheduled | Non-judicial | Type of foreclosure process done through the power of sale.
Substantial equity case | Total eligible indebtedness | The unpaid principal balance, accrued unpaid interest, allowable advances, liquidation expenses, and property preservation expenses (if incurred prior to the actual foreclosure sale date or the end of the foreclosure timeframe, whichever is earlier), less any credits.
Substantial equity case | Estimated unpaid principal balance of all other liens | The unpaid balance of any outstanding liens against the property.
Substantial equity case | Calculated equity amount (fair market value less all liens) | The fair market value of the property minus all monies owed on other liens.
Foreclosure sale postponed or cancelled | Date postponed or cancelled | Month, day, and year that foreclosure sale is postponed or cancelled.
Foreclosure sale postponed or cancelled | Postponed or cancelled indicator | Indicator denoting whether the foreclosure sale was postponed or whether it was cancelled.
Foreclosure sale postponed or cancelled | Reason | Basis for postponement or cancellation of foreclosure sale.
Foreclosure sale postponed or cancelled | Reinstatement | Reason for postponement or cancellation of foreclosure sale is to allow additional time for obligor to reinstate the loan.
Foreclosure sale postponed or cancelled | Bankruptcy | Reason for postponement or cancellation of foreclosure sale is petition for relief was filed under U.S. bankruptcy codes by or on behalf of the obligor.
Foreclosure sale postponed or cancelled | Repayment plan | Reason for postponement or cancellation of foreclosure sale is servicer has an agreement with the obligor for reinstatement of the loan through a schedule of increased payments.
Foreclosure sale postponed or cancelled | Special forbearance | Reason for postponement or cancellation of foreclosure sale is servicer has an agreement with the obligor to suspend foreclosure for a specified period of time to allow for loan reinstatement.
Foreclosure sale postponed or cancelled | Loan modification | Reason for postponement or cancellation of foreclosure sale is servicer has modified or is considering modification of the loan that will result in loan reinstatement.
Foreclosure sale postponed or cancelled | Private sale | Reason for postponement or cancellation of foreclosure sale is to allow additional time for obligor to complete a sale of the property, in which there is equity.
Foreclosure sale postponed or cancelled | Compromise sale | Reason for postponement or cancellation of foreclosure sale is to allow additional time to complete a sale of the property, even though the sale proceeds will be less than the total indebtedness.
Foreclosure sale postponed or cancelled | Title problems | Reason for postponement or cancellation of foreclosure sale is that title search disclosed problems which must be resolved prior to foreclosure.
Foreclosure sale postponed or cancelled | VA requested (includes refund consideration) | Reason for postponement or cancellation of foreclosure sale is VA requested.
Foreclosure sale postponed or cancelled | Procedural errors (failure to give notice, legal issues, failure to comply with foreclosure laws, incorrect publication, trustee appointments, recording issues) | Reason for postponement or cancellation of foreclosure sale is procedural error, such as failure to give notice, legal issues, failure to comply with foreclosure laws, incorrect publication, trustee appointments, recording issues, etc.
Foreclosure sale postponed or cancelled | Late appraisal | Reason for postponement or cancellation of foreclosure sale is that appraisal was not performed in time to proceed to foreclosure sale.
Foreclosure sale postponed or cancelled | Contested foreclosure | Reason for postponement or cancellation of foreclosure sale is the obligor or other party contests the validity or priority of the mortgage or lien being foreclosed or creates an issue with respect to mortgage holder's right to foreclose it.
Foreclosure sale postponed or cancelled | Property damage | Reason for postponement or cancellation of foreclosure sale is damage to the property occurred subsequent to completion of liquidation appraisal which could change or invalidate the bid amount.
Foreclosure sale postponed or cancelled | Hazardous conditions or materials (when a municipality requires property clean-up prior to foreclosure) | Reason for postponement or cancellation of foreclosure sale is municipality requires property clean-up of hazardous conditions and/or materials prior to foreclosure sale, or servicer discovers hazardous conditions and/or materials that will have an impact on final value determination.
Foreclosure sale postponed or cancelled | Condemned (with need to demolish or eminent domain) or demolished | Reason for postponement or cancellation of foreclosure sale is property is (a) deemed legally unfit for occupancy or continued existence due to its physical defects or for other causes, (b) property is being acquired by a governmental body for public uses, or (c) property has already been torn down as a result of being condemned.
Foreclosure sale postponed or cancelled | Natural disaster | Reason for postponement or cancellation of foreclosure sale is result of a natural disaster, such as fire, storm, accident, flood, earthquake, or other catastrophic event.
Foreclosure sale postponed or cancelled | Property seizure | Reason for postponement or cancellation of foreclosure sale is the result of law enforcement officials taking the property that has been used in connection with or acquired by illegal activities or to satisfy an unpaid judgment.
Foreclosure sale postponed or cancelled | SCRA | Reason for postponement or cancellation of foreclosure sale is obligor has filed for relief under or is deemed to be entitled to the (SCRA).
Foreclosure sale postponed or cancelled | Other | Reason for postponement or cancellation of foreclosure sale is other than one of the reasons listed.
Results of sale | Date of sale | Month, day, and year the foreclosure sale was held.
Results of sale | Sherriff's appraised value (if applicable, Kentucky, Ohio. Louisiana, and Oklahoma only) | Value of the property as determined by the court-ordered sheriff's appraisal.
Results of sale | Successful bidder | Designates whether the successful bidder was the holder or a third party.
Results of sale | Holder | The property was acquired by the holder of the loan.
Results of sale | Third party | The property was acquired by a third party.
Results of sale | Amount of successful bid | The amount of money bid to acquire the property.
Results of sale | Net value | The fair market value of the property minus the VA cost factor (net value = fair market value of the property * (1-the net value factor)).
Results of sale | Total eligible indebtedness | The unpaid principal balance, accrued unpaid interest, allowable advances, liquidation expenses, and property preservation expenses (if incurred prior to the actual foreclosure sale date or the end of the foreclosure timeframe, whichever is earlier), less any credits.
Transfer of custody | Insurance type (flood, earthquake, forced place, homeowner's, wind, fire)-report all applicable | Information about insurance policy(ies) in force at the time of transfer of custody to VA.
Transfer of custody | Flood | Reported insurance type is flood insurance.
Transfer of custody | Earthquake | Reported insurance type is earthquake insurance.
Transfer of custody | Forced place | Reported insurance type is forced place insurance.
Transfer of custody | Homeowner's | Reported insurance type is homeowner's insurance.
Transfer of custody | Wind | Reported insurance type is wind insurance.
Transfer of custody | Fire | Reported insurance type is fire insurance.
Transfer of custody | Policy number | Unique insurance company issued number identifying the specific insurance coverage plan.
Transfer of custody | Name of carrier | Name of the company that provides the insurance coverage.
Transfer of custody | Expiration date | Month, day, and year that the insurance coverage terminates.
Transfer of custody | Tax parcel/identification number(s)-report as many as are applicable | Unique number assigned by the local taxing authority to identify the property.
Transfer of custody | Redemption expiration date (if applicable) | Month, day, and year on which the redemption period terminates.
Transfer of custody | Date of confirmation/ratification of sale | Month, day, and year the foreclosure sale was confirmed or ratified (as required by State law).
Transfer of custody | Mortgage holder's payee vendor ID (per internal VA financial system) | Unique VA-assigned number used to identify the payee for VA purposes; servicer reports own vendor ID if servicer is payee.
Transfer of custody | Payee loan number (if payee differs from servicer) | Unique payee-assigned custody number used to identify the account.
Improper transfer of custody | Reason for the improper transfer of custody | Reason servicer erroneously transferred custody of a property to VA.
Improper transfer of custody | Holder wanted to keep the property | Holder intended to retain property but conveyed to VA in error.
Improper transfer of custody | Third party was the successful bidder | Third party was successful bidder so holder did not have the option to convey to VA.
Invalid sale results | Reason sale invalidated | Basis for determining that results changed or sale was invalid.
Invalid sale results | Bankruptcy | Reason sale was determined to be invalid is that petition for relief was filed under U.S. bankruptcy codes by or on behalf of the obligor.
Invalid sale results | Contested foreclosure | Reason sale was determined to be invalid is that the foreclosure was contested.
Invalid sale results | Third party fails to consummate sale | Reason sale was determined to be invalid is that third party purchaser did not complete the purchase requirements.
Invalid sale results | Procedural errors | Reason sale was determined to be invalid is procedural error, such as failure to give notice, legal issues, failure to comply with foreclosure laws, incorrect publication, trustee appointments, recording issues, etc.
Invalid sale results | SCRA | Reason sale was determined to be invalid is that obligor has filed for relief under or is deemed to be entitled to the SCRA.
Changed sale results | Date third party failed to consummate the sale | Month, day, and year the third party failed to consummate the sale as per consummation requirements in the applicable state (i.e. the timeframe for consummation expired).
Confirmed sale date with no transfer of custody | Confirmation or ratification date (when no transfer of custody) | Month, day, and year of sale confirmation or ratification when the servicer chooses to retain the property and the property is located in a confirmation or ratification of sale state.
Basic Claim Information | Claim type (for the claim submission—initial, supplemental, appeal) | Type of claim servicer is submitting, either initial, supplemental, or appeal.
Basic Claim Information | Payee vendor ID (per FMS) | Unique FMS-assigned number used to identify the payee for VA purposes.
Basic Claim Information | Payee loan number (if payee differs from servicer) | Unique payee-assigned number, used to identify the account.
Basic Claim Information | Borrower prepayment amount | Any unscheduled payment to principal by the borrower.
Basic Claim Information | Date of prepayment | Month, day, and year each prepayment was applied.
Basic Claim Information | Interest Rate Changes | Interest Rate Changes.
Basic Claim Information | Effective date of change for SCRA (change date), if applicable | Effective date of change for SCRA (change date).
Basic Claim Information | Interest rate for SCRA change, if applicable | Interest rate for SCRA change.
Basic Claim Information | ARM Loans (report all changes) | ARM Loans (report all changes).
Basic Claim Information | Effective date of change for ARM loans (change date) | Effective date of change for ARM loans (change date).
Basic Claim Information | Margin (for ARM interest rate changes) | Margin (for ARM interest rate changes).
Basic Claim Information | Date loan termination reported to credit bureaus | Month, day, and year that servicer reports to the credit bureau that the loan has been terminated.
Basic Claim Information | Credits | Any monies being held to be applied to the account indebtedness.
Basic Claim Information | Refunds of insurance premiums | Any monies received from refunds of insurance premiums.
Basic Claim Information | Tenant rents | Any monies received from collection of rents from tenants.
Basic Claim Information | Insurance loss information | The following elements detail the allocation of insurance proceeds.
Basic Claim Information | Date insurance claim payment received by servicer | Month, day, and year monies were paid to servicer as a result of insurable loss.
Basic Claim Information | Date denied (if applicable) | Month, day, and year that the insurance claim for damages was denied.
Basic Claim Information | Proceeds from insurance claim | Amount of insurance loss proceeds received.
Basic Claim Information | Disposition of insurance proceeds | Whether the insurance monies received were (a) applied to the unpaid principal balance, (b) used to restore the security, or (c) held in suspense.
Basic Claim Information | Applied to UPB | Whether the monies were (a) above.
Basic Claim Information | Used to restore security | Whether the monies were (b) above.
Basic Claim Information | Held in suspense | Whether the monies were (c) above.
Basic Claim Information | Amount applied to principal (if applicable) | Amount of monies from the insurance loss proceeds that were applied to the unpaid principal balance.
Basic Claim Information | Date applied to UPB (if applicable) | Month, day, and year that the insurance loss proceeds were applied to the unpaid principal balance.
Basic Claim Information | Escrow credit balance | Amount of monies, if any, remaining in tax and insurance escrow account.
Basic Claim Information | Suspended credits (partial payments in suspense) | Any other monies being held in suspense.
Basic Claim Information | Buydown credits from origination (seller buydowns) | Any unapplied seller buydown credits from loan origination.
Basic Claim Information | Buydown credits from foreclosure (only for pre-VALERI claims) | Amounts applied to (1) principal balance, (2) interest, or (3) escrow to obtain specified bid (pre-VALERI terminations). Buydown funds should have been applied, not held in suspense.
Basic Claim Information | Date of buydown or buydowns | Date or dates of foreclosure buydowns (pre-VALERI terminations).
Basic Claim Information | Interest on escrow | Amount of monies earned from obligor's escrow account as a result of interest payments.
Basic Claim Information | Itemized Advances (payment date and amount must be provided for each) | Amounts required to be advanced by the servicer to preserve and protect the property and/or the lien position. Need date and amount for every advance).
Basic Claim Information | Insurance | Amounts advanced by the servicer to obtain and/or continue insurance coverage.
Basic Claim Information | Forced place (annual), must also provide effective date | Amounts advanced by the servicer to obtain and/or continue yearly forced place insurance coverage; including month, day, and year that coverage became effective.
Basic Claim Information | Forced place (monthly binder) | Amounts advanced by the servicer to obtain and/or continue monthly forced place insurance coverage.
Basic Claim Information | Flood | Amounts advanced by the servicer to obtain and/or continue flood insurance coverage.
Basic Claim Information | Homeowner's/Fire/Hazard | Amounts advanced by the servicer to obtain and/or continue homeowner's, fire, and/or hazard insurance coverage.
Basic Claim Information | Wind | Amounts advanced by the servicer to obtain and/or continue wind insurance coverage.
Basic Claim Information | Earthquake | Amounts advanced by the servicer to obtain and/or continue earthquake insurance coverage.
Basic Claim Information | Taxes | Amounts advanced by the servicer to pay amounts which were levied by a government authority upon the property.
Basic Claim Information | City | Amounts advanced by the servicer to pay city taxes.
Basic Claim Information | County/Parish | Amounts advanced by the servicer to pay county/parish taxes.
Basic Claim Information | School | Amounts advanced by the servicer to pay school taxes.
Basic Claim Information | Levee | Amounts advanced by the servicer to pay levee taxes.
Basic Claim Information | Township | Amounts advanced by the servicer to pay township taxes.
Basic Claim Information | Municipal Utility District (MUD) | Amounts advanced by the servicer to pay MUD taxes.
Basic Claim Information | Public Utility District (PUD) | Amounts advanced by the servicer to pay PUD taxes.
Basic Claim Information | Special assessments | Amounts advanced by the servicer to pay special assessments against the property.
Basic Claim Information | Ground rent | Amounts advanced by the servicer to pay ground rent due on the property.
Basic Claim Information | Association fees | Amounts advanced by the servicer to pay HOA, CIA, PUD, and/or condo association fees.
Basic Claim Information | Property preservation | Amounts advanced by the servicer to protect and preserve the property.
Basic Claim Information | Yard maintenance | Amounts advanced by the servicer for required yard maintenance services performed on the property.
Basic Claim Information | Initial cut up to 5,000 s.f. | Amounts advanced by the servicer for initial mowing services of up to 5,000 square feet.
Basic Claim Information | Initial cut 5,001-10,000 s.f. | Amounts advanced by the servicer for initial mowing services of between 5,001 and 10,000 square feet.
Basic Claim Information | Initial cut 10,000 s.f. or larger | Amounts advanced by the servicer for initial mowing services of greater than 10,000 square feet.
Basic Claim Information | Recut cut up to 5,000 s.f. | Amounts advanced by the servicer for additional mowing services of up to 5,000 square feet.
Basic Claim Information | Recut cut 5,001-10,000 s.f. | Amounts advanced by the servicer for additional mowing services of between 5,001 and 10,000 square feet.
Basic Claim Information | Recut cut 10,000 s.f. or larger | Amounts advanced by the servicer for additional mowing services of greater than 10,000 square feet.
Basic Claim Information | Trim shrubs | Amounts advanced by the servicer for shrub trimming services performed on the property.
Basic Claim Information | Snow removal | Amounts advanced by the servicer for snow removal services performed on the property.
Basic Claim Information | Winterization | Amounts advanced by the servicer to prepare the property to withstand cold winter conditions.
Basic Claim Information | Dry heat-1 unit | Amounts advanced by the servicer to winterize one property unit with dry heat.
Basic Claim Information | Dry heat-addl. units | Amounts advanced by the servicer to winterize any additional property units with dry heat.
Basic Claim Information | Wet heat-1unit | Amounts advanced by the servicer to winterize one property unit with wet heat.
Basic Claim Information | Wet heat-addl. unit | Amounts advanced by the servicer to winterize any additional property units with wet heat.
Basic Claim Information | Radiant heat-1 unit | Amounts advanced by the servicer to winterize one property unit with radiant heat.
Basic Claim Information | Radiant heat-addl. unit | Amounts advanced by the servicer to winterize any additional property units with radiant heat.
Basic Claim Information | Reduced pressure zone (RPZ) valve | Amounts advanced by the servicer to repair, replace, or install (as necessary to comply with state health department requirements) a reduced pressure zone (RPZ) valve.
Basic Claim Information | Pools, spas, and hot tubs winterization | Amounts advanced by the servicer to winterize pools, spas, and hot tubs.
Basic Claim Information | Utilities | Amounts advanced by the servicer to pay for necessary utility services.
Basic Claim Information | Electricity | Amounts advanced by the servicer to pay for electricity.
Basic Claim Information | Gas | Amounts advanced by the servicer to pay for gas.
Basic Claim Information | Oil | Amounts advanced by the servicer to pay for oil.
Basic Claim Information | Propane | Amounts advanced by the servicer to pay for propane.
Basic Claim Information | Water and sewer | Amounts advanced by the servicer to pay for water and sewer services.
Basic Claim Information | Equipment repair or replacement | Amounts advanced by the servicer for necessary equipment repair or replacement.
Basic Claim Information | Sump pump repair | Amounts advanced by the servicer to pay for repair of a required sump pump.
Basic Claim Information | Sump pump installation | Amounts advanced by the servicer to pay for installation of a required sump pump.
Basic Claim Information | Pumping water from basement | Amounts advanced by the servicer to pay for services related to removing water from the basement of the property.
Basic Claim Information | Water well (pump, tank, and lines) | Amounts advanced by the servicer to pay for necessary water well equipment repair or replacement.
Basic Claim Information | Securing | Amounts advanced by the servicer to properly secure, protect, and preserve vacant and abandoned properties.
Basic Claim Information | Securing of the property | Amounts advanced by the servicer to initially secure the property.
Basic Claim Information | Resecure property | Amounts advanced by the servicer to resecure the property.
Basic Claim Information | Temporary roof repairs | Amounts advanced by the servicer to make required temporary roof repairs.
Basic Claim Information | Pools, spas, and hot tubs securing | Amounts advanced by the servicer to properly secure pools, spas, and hot tubs.
Basic Claim Information | In-ground pools | Amounts advanced by the servicer to properly secure in-ground pools.
Basic Claim Information | Above ground | Amounts advanced by the servicer to properly secure above ground pools.
Basic Claim Information | Hot tubs or spas | Amounts advanced by the servicer to properly secure hot tubs or spas.
Basic Claim Information | Pools, spas, and hot tubs maintenance | Amounts advanced by the servicer to pay for necessary maintenance to pools, spas, and hot tubs.
Basic Claim Information | Boarding | Amounts advanced by the servicer to properly board any openings in the property (windows and doors) with plywood.
Basic Claim Information | Boarding-½″ plywood | Amounts advanced by the servicer to pay for boarding with ½″ plywood.
Basic Claim Information | Boarding-⅝″ plywood | Amounts advanced by the servicer to pay for boarding with ⅝″ plywood.
Basic Claim Information | Boarding-¾″plywood | Amounts advanced by the servicer to pay for boarding with ¾″ plywood.
Basic Claim Information | Hazard Abatement | Amounts advanced by the servicer to take necessary actions in compliance with federal, state and local regulations with regards to environmental hazards (such as asbestos and radon).
Basic Claim Information | Debris removal | Amounts advanced by the servicer to remove debris from the property, in compliance with federal, state and local regulations.
Basic Claim Information | Cubic yards removed | Total number of cubic yards of debris removed.
Basic Claim Information | Amount paid per cubic yard | Amounts advanced by the servicer to remove debris from the property, per cubic yard.
Basic Claim Information | Number of units (1, 2, 3, or 4) | Amounts advanced by the servicer for debris removal from one unit.
Basic Claim Information | Vehicle removal | Amounts advanced by the servicer to remove abandoned vehicle(s) from the property in compliance with state and local requirements.
Basic Claim Information | Liquidation expenses | Expenses incurred by the servicer necessary to terminate the loan.
Basic Claim Information | Attorney fees | Expenses incurred by the servicer for legal representation necessary to terminate the loan.
Basic Claim Information | Foreclosure attorney fees | Expenses incurred by the servicer for necessary legal representation related to terminating the loan by foreclosure.
Basic Claim Information | DIL attorney fees | Expenses incurred by the servicer for necessary legal representation related to terminating the loan by deed in lieu of foreclosure.
Basic Claim Information | Bankruptcy attorney fees—chapter 7 | Expenses incurred by the servicer for necessary legal representation related to filing for a relief of stay in a Chapter 7 bankruptcy proceeding.
Basic Claim Information | Bankruptcy attorney fees—chapter 13/11 | Expenses incurred by the servicer for necessary legal representation related to filing for a relief of stay in a Chapter 13 or 11 bankruptcy proceeding.
Basic Claim Information | Bankruptcy attorney fees—multiple | Expenses incurred by the attorney fees-servicer for necessary legal multiple representation related to filing for a relief of stay in multiple bankruptcy proceedings.
Basic Claim Information | Ad litem/ curator fees/ warning order attorney fees | Expenses incurred by the servicer for legal representation appointed by a court to act on behalf of another party, which is necessary to terminate the loan.
Basic Claim Information | Attorney service tax | Expenses incurred by the servicer for payment of taxes imposed on attorney service fees.
Basic Claim Information | Attorney fee for foreclosure restarts | Expenses incurred by the servicer for necessary legal representation related to terminating the loan in the event that the initial foreclosure was cancelled (not postponed) due to events outside the servicer's control and must be restarted.
Basic Claim Information | Appraisals | Expenses incurred by the servicer to have a VA-assigned appraiser determine the market value of the property.
Basic Claim Information | Single unit | Expenses incurred by the servicer to have a VA-assigned appraiser determine the market value of the single unit property.
Basic Claim Information | Duplex | Expenses incurred by the servicer to have a VA-assigned appraiser determine the market value of the two unit property.
Basic Claim Information | Three units | Expenses incurred by the servicer to have a VA-assigned appraiser determine the market value of the three unit property.
Basic Claim Information | Four units | Expenses incurred by the servicer to have a VA-assigned appraiser determine the market value of the four unit property.
Basic Claim Information | Condominium | Expenses incurred by the servicer to have a VA-assigned appraiser determine the market value of the condominium property.
Basic Claim Information | Appraisal service tax | Expenses incurred by the servicer for payment of taxes imposed on services of appraiser.
Basic Claim Information | Court appraisal | Expenses incurred by the servicer to have a court ordered appraisal completed to determine the market value of the property.
Basic Claim Information | Mileage | Expenses incurred by the servicer to have a VA-assigned appraiser travel to the property to perform an appraisal.
Basic Claim Information | Appraisal update | Expenses incurred by the servicer to have a VA-assigned appraiser update the original appraisal of the property.
Basic Claim Information | Title | Expenses incurred by the servicer for title related costs necessary to terminate the loan.
Basic Claim Information | Title search | Expenses incurred by the servicer for search of records (performed by title company or attorney) prior to a foreclosure sale (to insure a valid foreclosure).
Basic Claim Information | Title examination | Expenses incurred by the servicer for a close examination of all public records that affect the title to the property, including reviewing past deeds, wills, and trusts to make sure the title has passed correctly to each owner and to verify that all prior mortgages have been extinguished.
Basic Claim Information | Title commitment | Expenses incurred by the servicer for a written commitment from the title company stating the conditions under which the title company will insure title to the property.
Basic Claim Information | Trustee sale guaranty (TSG) | Expenses incurred by the servicer for a written commitment from the title company stating the conditions under which it will insure title to the property following a proper foreclosure.
Basic Claim Information | Title endorsement | Expenses incurred by the servicer to pay required endorsement fees.
Basic Claim Information | Title update | Expenses incurred by the servicer to pay for required updates to the title commitment.
Basic Claim Information | Title policy | Expenses incurred by the servicer to pay for the title policy.
Basic Claim Information | Title opinion/abstracting legal opinion | Expenses incurred by the servicer for a statement issued by an attorney as to the quality of title after examining an abstract of title.
Basic Claim Information | Abstracting update | Expenses incurred by the servicer to pay for required updates to the abstract.
Basic Claim Information | Title service tax | Expenses incurred by the servicer to pay taxes imposed on title services.
Basic Claim Information | Certificate of regularity | Expenses incurred by the servicer to establish sufficiency of probate (wills) proceedings, or other proceedings held outside the county in which the property is situated.
Basic Claim Information | Filing fees | Expenses incurred by the servicer as charged by public officials in the property's area for recording or filing documents related to the loan obligation.
Basic Claim Information | Judgment | Expenses incurred by the servicer as charged by public officials for the recording or filing of a judgment.
Basic Claim Information | Bankruptcy | Expenses incurred by the servicer as charged by public officials for the recording or filing of bankruptcy-related motions.
Basic Claim Information | Lis pendens | Expenses incurred by the servicer as charged by public officials for the recording or filing of notice of the filing of a suit.
Basic Claim Information | Summons | Expenses incurred by the servicer as charged by public officials for the recording or filing of a summons.
Basic Claim Information | Complaint | Expenses incurred by the servicer as charged by public officials for the recording or filing of a complaint.
Basic Claim Information | Petition | Expenses incurred by the servicer as charged by public officials for the recording or filing of a petition.
Basic Claim Information | Order confirming sale | Expenses incurred by the servicer as charged by public officials for the recording or filing of an order confirming sale.
Basic Claim Information | Posting notice of sale | Expenses incurred by the servicer as charged by public officials for the posting of the notice of sale.
Basic Claim Information | Notice affidavit | Expenses incurred by the servicer as charged by public officials for the recording or filing of the affidavit stating that proper notice of sale was posted.
Basic Claim Information | Military affidavit | Expenses incurred by the servicer for a sworn, written statement, affirming that the property owner is not entitled to any rights under the SCRA.
Basic Claim Information | Notice of publication affidavit | Expenses incurred by the servicer as charged by public officials for the recording or filing of the affidavit stating that proper notice of sale was published.
Basic Claim Information | Index number | Expenses incurred by the servicer as charged by public officials for the recording or filing of the index number.
Basic Claim Information | Request for judicial intervention | Expenses incurred by the servicer as charged by public officials for the recording or filing of a request for judicial intervention.
Basic Claim Information | Recording fees—foreclosure | Expenses incurred by the servicer as charged by public officials for recording or filing foreclosure documents.
Basic Claim Information | Foreclosure deed (sheriff's, trustee's, referee's, or commissioner's deed) | Expenses incurred by the servicer as charged by public officials for recording or filing of the deed following foreclosure.
Basic Claim Information | Assignment of sheriff's deed | Expenses incurred by the servicer as charged by public officials for recording or filing the assignment of the deed following foreclosure.
Basic Claim Information | Sheriff's certificate of sale | Expenses incurred by the servicer as charged by public officials for recording or filing the Sheriff's certificate of sale.
Basic Claim Information | Assignment of sheriff's certificate of sale | Expenses incurred by the servicer as charged by public officials for recording or filing the assignment of the Sheriff's certificate of sale.
Basic Claim Information | Deed to VA | Expenses incurred by the servicer as charged by public officials for recording or filing the deed to VA.
Basic Claim Information | Notice of foreclosure | Expenses incurred by the servicer as charged by public officials for recording or filing the notice of foreclosure.
Basic Claim Information | Substitution of trustee (appointment, agreement, or document) | Expenses incurred by the servicer as charged by public officials for recording or filing the substitution of trustee.
Basic Claim Information | Notice of default/foreclosure notice | Expenses incurred by the servicer as charged by public officials for recording or filing the notice of default/foreclosure notice.
Basic Claim Information | Judgment | Expenses incurred by the servicer as charged by public officials for the recording or filing of a judgment.
Basic Claim Information | Summons | Expenses incurred by the servicer as charged by public officials for the recording or filing of a summons.
Basic Claim Information | Certificate of non-redemption | Expenses incurred by the servicer as charged by public officials for the recording or filing of a certificate of non-redemption.
Basic Claim Information | Recording Fees—DIL | Expenses incurred by the servicer as charged by public officials for recording or filing deed in lieu of foreclosure documents.
Basic Claim Information | Warranty deed from owner to holder | Expenses incurred by the servicer as charged by public officials for recording or filing the deed from owner to holder.
Basic Claim Information | Estoppel affidavit | Expenses incurred by the servicer as charged by public officials for recording or filing the estoppel affidavit.
Basic Claim Information | Deed to VA | Expenses incurred by the servicer as charged by public officials for recording or filing the deed to VA.
Basic Claim Information | Satisfaction of mortgage | Expenses incurred by the servicer as charged by public officials for recording or filing the satisfaction of mortgage/release of mortgage.
Basic Claim Information | Deed of reconveyance/full release | Expenses incurred by the servicer as charged by public officials for recording or filing the deed of reconveyance/full release.
Basic Claim Information | Foreclosure facilitation fees | Expenses incurred by the servicer as charged by public officials to facilitate the foreclosure process.
Basic Claim Information | Sheriff's/administrator/commissioner fees and costs (includes court costs) | Expenses payable with respect to sheriff/administrator/commissioner fees and costs.
Basic Claim Information | Trustee/referee/master in equity fees | Expenses incurred by the servicer to pay the trustee/referee/master in equity for fees charged.
Basic Claim Information | Auctioneer's fee | Expenses incurred by the servicer to pay the auctioneer to conduct the foreclosure sale.
Basic Claim Information | Court recorder fee | Expenses incurred by the servicer to pay the court recorder for recording services.
Basic Claim Information | Prothonatory/clerk's fee | Expenses incurred by the servicer to pay the prothonotary/clerk for fees charged.
Basic Claim Information | Other fees and costs | Expenses incurred by the servicer to pay for any liquidation Expenses not previously listed.
Basic Claim Information | Publication of sale/advertisement in newspaper or on the internet | Expenses incurred by the servicer to pay for publication/advertisement of the notice of sale in an appropriate newspaper.
Basic Claim Information | Service of process | Expenses incurred by the servicer to serve papers on any necessary party of interest.
Basic Claim Information | Personal (sheriff or private entity) | Expenses incurred by the servicer to pay for fees charged to personally serve papers on any necessary party of interest.
Basic Claim Information | By publication | Expenses incurred by the servicer to pay for fees charged to serve legal notice on any necessary party of interest by publication.
Basic Claim Information | By certified Mail | Expenses incurred by the servicer to send required notices by certified mail to all parties of interest.
Basic Claim Information | Investigation fee | Expenses incurred by the servicer to pay the investigator for fees charged.
Basic Claim Information | Non-extinguishable liens | Expenses incurred by the servicer to pay for any liens that are not extinguished by the foreclosure action.
Basic Claim Information | Committee fees and costs | Fees and costs incurred by the servicer to convene the committee to confirm the sale when there is equity and/or IRS liens.
Basic Claim Information | Transfer tax/documentary stamps | Expenses incurred by the servicer for the state or local tax payable upon the transfer of a title.
Basic Claim Information | Property inspections | Expenses incurred by the servicer for required property inspections.
Basic Claim Information | Dates inspections completed | Months, days, years, property inspections were completed.
Basic Claim Information | Property inspection fee | Expenses incurred by the servicer to pay fees charged for required property inspections.
Basic Claim Information | Municipal lien certificate | Expenses incurred by the servicer to obtain a municipal lien certificate.
Basic Claim Information | Title V septic (Massachusetts) | Expenses incurred by the servicer to inspect for and certify compliance with Title V septic requirements.
Basic Claim Information | Poundage | Fee charged by the court for handling the funds received from the sale of the property for third party bids.
Basic Claim Information | Mennonite notices | Expenses incurred by the servicer to notify every party holding a legally protected property interest whose name and address can reasonably be determined by diligent efforts.

Paperwork Reduction Act of 1995

While the proposed rule sets forth collections of information pertaining to proposed § 36.4315a, this supplemental notice contains no new or proposed revised collections of information outside of those referenced in the proposed rule.

Executive Order 12866

Executive Order 12866 directs agencies to assess all costs and benefits of available regulatory alternatives and, when regulation is necessary, to select regulatory approaches that maximize net benefits (including potential economic, environmental, public health and safety, and other advantages; distributive impacts; and equity). The Executive Order classifies a “significant regulatory action,” requiring review by the Office of Management and Budget (OMB) unless OMB waives such review, as any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in the Executive Order.

The economic, interagency, budgetary, legal, and policy implications of this supplemental notice of proposed rulemaking has been examined, and it has been determined not to be a significant regulatory action under Executive Order 12866.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This supplemental notice of proposed rulemaking would have no such effect on State, local, or tribal governments, or the private sector.

Regulatory Flexibility Act

The Secretary hereby certifies that this supplemental notice of proposed rulemaking would not have a significant economic impact on a substantial number of small entities as they are defined in the Regulatory Flexibility Act, 5 U.S.C. 601-612. This notice provides additional information concerning the computer-based system that VA proposed to implement in its prior rulemaking notice. The additional information does not alone have any economic impact on small entities. Therefore, pursuant to 5 U.S.C. 605(b), the supplemental notice of proposed rulemaking is exempt from the initial and final regulatory flexibility analysis requirements of sections 603 and 604.

Catalog of Federal Domestic Assistance

The Catalog of Federal Domestic Assistance Program number is 64.114, Veterans Housing Guaranteed and Insured Loans.

Approved: November 20, 2006.
R. James Nicholson,
Secretary of Veterans Affairs.

[FR Doc. 06-9403 Filed 11-21-06; 12:29 pm]

BILLING CODE 8320-01-P